DEPARTMENT OF LABOR

Employment and Training Administration

[TA-W-75,181]

Sony Music Holdings, Inc., D/B/A Sony DADC Americas, a Subsidiary of Sony Corporation of America Including On-Site Leased Workers From Employment Plus, Aerotek, and Robert Half, Pitman, NJ; Notice of Affirmative Determination Regarding Application for Reconsideration

By application dated June 15, 2011, a petitioner requested administrative reconsideration of the negative determination regarding workers' eligibility to apply for Trade Adjustment Assistance (TAA) applicable to workers and former workers of Sony Music Holdings, Inc. (“SMHI”), d/b/a Sony DADC Americas, a subsidiary of Sony Corporation of America, including on-site leased workers from Employment Plus, Aerotek, and Robert Half, Pitman, New Jersey (subject firm). The negative determination was issued on May 19, 2011. The Department's Notice of Determination was published in the Federal Register on June 3, 2011 (76 FR 32229). The workers were engaged in activities related to the production of optical discs containing content.

The negative determination was based on the findings that there was no increase in imports of optical discs (or like or directly competitive articles) by the subject firm or its customers and no shift to or acquisition from a foreign country by the workers' firm of production of articles like or directly competitive with the optical discs produced by the subject firm.

In the request for reconsideration, the petitioner stated that “There was a shift by the workers' firm to a foreign country in the production of articles like those produced by the Song DADC-Pitman site. The attached documents illustrate the project plan by `SMHI' to expand customers and increase capacity and services in the Sony Nuevo Laredo plant located in Mexico.” The documents include a “Sony DADC Communique, Volume 3, Issue 1” (dated January/February 2010), a “Sony Nuevo Laredo Project Plan” (undated), copies of shipping documents, and copies of electronic mail messages.

The Department has carefully reviewed the petitioner's request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 28th day of June, 2011.
Del Min Amy Chen,
Certifying Officer, Office of Trade Adjustment Assistance.

[FR Doc. 2011-17088 Filed 7-7-11; 8:45 am]

BILLING CODE 4510-FN-P